DEPARTMENT OF HOMELAND SECURITY

[Docket No. DHS-2022-0046]

Homeland Security Advisory Council

AGENCY: The Office of Partnership and Engagement (OPE), The Department of Homeland Security (DHS).

ACTION: Notice of partially closed Federal advisory committee meeting.

SUMMARY: The Homeland Security Advisory Council (HSAC or Council) will meet in person on Monday, March 21, 2022 (the meeting). The meeting will be partially closed to the public. Due to the National Emergency concerning the Novel Coronavirus Disease (COVID-19) pandemic, members of the public may join the public portion of the meeting by teleconference.

DATES: The meeting will take place from 9:30 a.m. to 12:35 p.m. ET on Monday, March 21, 2022. The meeting will be closed to the public from 10:10 a.m. to 12:10 p.m. ET. The meeting will be open to the public from 9:30 a.m. to 10:00 a.m. ET. The meeting may end early if the Council has completed its business. If the time of the meeting changes due to the National Emergency concerning the COVID-19 pandemic, those members of the public who have signed up to participate in the open session of the meeting will receive an updated schedule as soon as it becomes available.

Public Participation: Members of the public will be in listen-only mode. The public may register to participate in the open session of this meeting via teleconference through the following procedures. Each person must provide their full legal name and email address no later than 5:00 p.m. ET on Thursday, March 17, 2022 to the individual listed in the FOR FURTHER INFORMATION CONTACT section. The conference call details will be provided to interested members of the public after the public registration period closes and prior to the start of the meeting. For information on services for individuals with disabilities, or to request special assistance, contact the individual listed in the FOR FURTHER INFORMATION CONTACT section as soon as possible. Written public comments prior to the meeting must be received by 5:00 p.m. ET on Thursday, March 17, 2022, and must be identified by Docket No. DHS-2022-0046. Written public comments after the meeting must be identified by Docket No. DHS-2022-0046 and may be submitted by one of the following methods:

• Federal eRulemaking Portal: https://www.regulations.gov. Follow the instructions for submitting comments.

• Email: HSAC@hq.dhs.gov. Include Docket No. DHS-2022-0046 in the subject line of the message.

• Mail: Jason Mayer, Executive Director of Homeland Security Advisory Council, Office of Partnership and Engagement, Mailstop 0385, Department of Homeland Security, 2707 Martin Luther King Jr. Ave. SE, Washington, DC 20528.

Instructions: All submissions received must include the words “Department of Homeland Security” and “DHS-2022-0046,” the docket number for this action. Comments received will be posted without alteration at https://www.regulations.gov, including any personal information provided. You may wish to review the Privacy and Security Notice which is available via a link on the homepage of https://www.regulations.gov.

Docket: You may provide your comments and read comments received by the Council, by going to https://www.regulations.gov, searching “DHS-2022-0046,” and selecting “Open Docket Folder.”

FOR FURTHER INFORMATION CONTACT: Jason Mayer at HSAC@hq.dhs.gov or at (202) 282-8000.

SUPPLEMENTARY INFORMATION: Notice of this meeting is given under Section 10(a) of the Federal Advisory Committee Act (FACA), Public Law 92-463 (5 U.S.C. Appendix), which requires a portion of each FACA committee meeting to be open to the public unless the President, or the head of the agency to which the advisory committee reports, determines that a portion of the meeting may be closed to the public in accordance with 5 U.S.C. 552b(c).

The Council provides organizationally independent, strategic, timely, specific, actionable advice, and recommendations to the Secretary of Homeland Security on matters related to homeland security. The Council consists of senior executives from government, the private sector, academia, law enforcement, and non-governmental organizations.

The Council will meet in an open session between 9:30 a.m. to 10:00 a.m. ET. During the open session, the Council will swear in new members and discuss its future scope of work.

The Council will meet in a closed session from 10:10 a.m. to 12:10 p.m. ET to participate in a sensitive discussion with DHS Secretary Alejandro N. Mayorkas regarding DHS operations. Basis for Partial Closure: In accordance with Section 10(d) of FACA, the Secretary of Homeland Security has determined this meeting must be closed during this session as the disclosure of the information relayed would be detrimental to the public interest for the following reasons:

The Council will participate in a sensitive operational discussion containing For Official Use Only and Law Enforcement Sensitive information. This discussion will include information regarding threats facing the United States and how DHS plans to address those threats. The session is closed pursuant to 5 U.S.C. 552b(c)(9)(B) because the disclosure of this information could significantly frustrate implementation of proposed agency actions.

Jason D. Mayer,
Executive Director, Homeland Security Advisory Council, Department of Homeland Security.

[FR Doc. 2022-04654 Filed 3-3-22; 11:15 am]

BILLING CODE 9112-FN-P